COMMISSION ON CIVIL RIGHTS

Agenda and Notice of Public Meeting of the Connecticut, District of Columbia, Maine, Maryland, Massachusetts, New Hampshire, New Jersey, and Pennsylvania Advisory Committees

Notice is hereby given, pursuant to the provisions of the rules and regulations of the U.S. Commission on Civil Rights (Commission) and the Federal Advisory Committee Act (FACA), that a webinar briefing meeting of the Connecticut, District of Columbia, Maine, Maryland, Massachusetts, New Hampshire, New Jersey, and Pennsylvania State Advisory Committees will convene on Monday, November 14, 2011, at 10:30 a.m. (E.S.T.). The briefing will be at Commission Headquarters, 624 9th Street NW., Room 540, Washington, DC 20425. The purpose of the meeting is to receive a briefing from experts on Human Trafficking.

Those who are unable to attend the briefing at the Commission Headquarters in person may join through an Internet connection. Please contact the Eastern Regional Office for details on the internet connection by calling (202) 376-7533 or by email at ero@usccr.gov.

Members of the public are entitled to submit written comments. The comments must be received in the regional office by Monday, December 5, 2011. The address is Eastern Regional Office, 624 9th Street NW., Suite 740, Washington, DC 20425. Persons wishing to email their comments, or who desire additional information should contact the Eastern Regional Office at (202) 376-7533 or by email to: ero@usccr.gov.

People seeking disability accommodations should contact the Eastern Regional Office at least five (5) working days before the scheduled meeting date.

Records generated from this briefing may be inspected and reproduced at the Eastern Regional Office, as they become available, both before and after the webinar. Persons interested in the work of these advisory committees are advised to go to the Commission's Web site, http://www.usccr.gov, or to contact the Eastern Regional Office at the above email or street address.

The briefing will be conducted pursuant to the rules and regulations of the Commission and FACA.

Dated in Washington, DC, on October 27, 2011.
Peter Minarik,
Acting Chief, Regional Programs Coordination Unit.

[FR Doc. 2011-28383 Filed 11-1-11; 8:45 am]

BILLING CODE 6335-01-P